DEPARTMENT OF THE INTERIOR

Bureau of Land Management

[ID-074-1220-PA-241A]

Notice of Proposed Closure of Certain Lands to Off-Highway Vehicle Use to Implement the Medicine Lodge Resource Management Plan, and Big Desert Management Framework Plan, Upper Snake River District, Idaho

AGENCY: Bureau of Land Management, Interior.

SUMMARY: The Idaho Falls Field Office, Bureau of Land Management (BLM), proposes to close or seasonally restrict certain public lands in the Upper Snake River District, Idaho, to use by motor vehicles, including off-highway vehicles, snowmobiles and other snow machines under BLM's off-highway vehicle regulations. The notice affects lands covered by two land use plans and several activity level plans. The Medicine Lodge Resource Management Plan and the Big Desert Management Framework Plan described certain lands as “Closed to Off Highway Vehicles,” and classified others as “Semi-Primitive Non-Motorized.” The purpose of these proposed closures is to manage the specified lands to protect watershed, wildlife, and scenic values from damage caused by off-highway vehicle use, and to prevent undue and unnecessary disturbance to big game populations migrating to crucial winter range habitat.

DATES: You must submit your comments to BLM at the appropriate address below on or before February 21, 2001. BLM will not necessarily consider any comments received after that date in making its decisions on the final order.

ADDRESSES: Anyone wishing to make comments may submit them in person or by mail to the Field Manager, BLM Idaho Falls Field Office, 1405 Hollipark Drive, Idaho Falls, ID 83401-2100.

SUPPLEMENTARY INFORMATION:

I. Public Comment Procedure

Your comments on the proposed closure order should be specific, should be confined to issues pertinent to the proposed closure order, and should explain the reason for any recommended change. Where possible, your comments should refer to the specific section or paragraph of the proposal or to the specific tract of land that you are addressing. BLM may not necessarily consider or include in the Administrative Record for the final closure order comments that BLM receives after the close of the comment period or comments delivered to an address other than those listed above.

BLM will make your comments, including your name and address, available for public review at the Idaho Falls Field Office during regular business hours (7:45 a.m. to 4:30 p.m., Monday through Friday, except Federal holidays). Under certain conditions, BLM may keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Background

The authority for these closures is 43 CFR 8342.2(c), which directs BLM to “* * * take action by marking and other appropriate measures to identify designated areas and trails so that the public will be aware of locations and limitations applicable thereto. The authorized officer shall make appropriate informational material, including maps, available for public review.”

The proposed closures implement the Medicine Lodge Resource Management Plan (RMP), the Big Desert Management Framework Plan (MFP) and associated activity level plans include the Sands Habitat Management Plan, Tex Creek Wildlife Management Area Plan, and the Snake River Activity/Operations Plan, and will remain in effect permanently with the publication of the final notice. This notice identifies by legal land description the precise areas that are closed to implement the plans.

There are several closure areas identified in the Medicine Lodge RMP. This notice only deals with the Tex Creek/Willow Creek, Big Bend Ridge, and Stinking Springs areas as well as river bottoms along the South Fork of the Snake River. The Big Desert MFP has identified a critical wildlife area along the main stem of the Snake River below Idaho Falls, Idaho.

The Tex Creek and Willow Creek areas are crucial wildlife areas lying east of Idaho Falls, Idaho. A majority of the lands are included in the Tex Creek Wildlife Management Area and are cooperatively managed with Idaho Dept. of Fish & Game and Bureau of Reclamation lands.

The closure affecting the Big Bend Ridge area implements the Sands Habitat Management Plan. An objective of this plan is to minimize the degree of harassment of elk due to human activity within the habitat management plan boundaries from November 15 to April 15 of the next year annually. Within the overall area, a seasonal “No Human Entry” closure is already in effect from January 1 through April 30 of each year throughout the majority of the wintering big game range. This closure notice would cover the transition area or migration route to the winter range and protect the habitat from OHV use. The established designated routes across public land along Fourth of July Creek, Saddorous Hill, and Hidden Reservoir/Jackson Mill roads will remain open.

Areas along the South Fork of the Snake River includes the Stinking Springs area and critical floodplain river bottom lands. The Snake River Activity/Operations Plan restricted OHV use to a few existing roads and trails such as the Stinking Springs Trail. The river bottom lands are experiencing increases in new OHV trails. BLM considers these lands sensitive riparian habitat areas. Therefore, BLM needs to restrict OHV use on these lands.

Under the authority and for the reasons stated in the Background section, the Idaho Falls Field Office, Bureau of Land Management, issues the following closure notice.

Closure of Certain Public Lands in the Upper Snake River District to Motor Vehicle Use

Tex Creek/Willow Creek Area

Effective (30 days after the date of publication of final closure order in the Federal Register), Bureau of Land Management (BLM)—administered public lands located in the Tex Creek/Willow Creek area, described below, that are designated as “Closed to Off Highway Vehicles (OHV)” or “Semi Primitive Non-motorized” in the Medicine Lodge Resource Management Plan are closed to motor vehicle use, including off highway vehicles (OHV) and snow machines. The only exceptions to this closure are administrative use of vehicles by the Bureau of Land Management and use by BLM permittees, including State and local government agencies. The area is bounded generally by the Bone Road on the west, Caribou National Forest on the east, the Bonneville and Bingham County lines on the south, and Ririe Reservoir to the north, and is located within the Tex Creek Wildlife Management Area. The legal description of the lands is as follows:

Boise Meridian, Idaho

T. 1 N., R. 40 E.,

Sec. 1, W½ SE¼;

Sec. 4, S½ SE¼;

Sec. 5, Lots 3 and 4, S½ NW¼, SW¼ NE¼, W½ SE¼, SE¼ SE¼, SW¼;

Sec. 7, E½ SE¼, NW¼ SE¼;

Sec. 8, W½ SW¼, N½ NE¼, NE¼ NW¼;

Sec. 9, S½ NE¼, S½ NW¼;

Sec. 10, NW¼, NW¼ NE¼;

Sec. 12, E½ NE¼;

Sec. 17, W½, W½ SE¼, SW¼ NE¼;

Sec. 18, E½ E½;

Sec. 19, N½ NE¼;

Sec. 20, NW¼;

Sec. 21, SE¼ SW¼;

Sec. 28, N½ NW¼, SE¼ NW¼, E½ SW¼, SW¼ SW¼, W½ SE¼, SE¼ SE¼;

Sec. 29, N½ N½;

Sec. 32, Lots 1 and 2, N½ SE¼, S½ NE¼, NE/14 NE¼;

Sec. 33, Lots 1-4, NW¼ NE¼, NE¼ NW¼, W½ NW¼, N½ SW¼, N½ SE¼;

Sec. 34, SW¼ SW¼.

T. 1 N., R. 41 E.,

Sec. 7, Lots 2 and 3, SW¼ SE¼, SE¼ SW¼;

Sec. 14, SW¼, S½ NW¼, NE¼ NW¼, SW¼ SE¼;

Sec. 15, SE¼, N½ SW¼, SE¼ NE¼, NW¼ NE¼;

Sec. 17, NW¼ NW¼;

Sec. 21, NE¼;

Sec. 23, W½, S½ NE¼, NW¼ NE¼;

Sec. 26, N½ SW¼, SW¼ NW¼;

Sec. 27, S½ NE¼, N½ SW¼, SE¼ NW¼.

T. 2 N., R. 40 E.,

Sec. 23, N½ SW¼, SW¼ SW¼, SE¼ NE¼, NE¼ NE¼;

Sec. 24, S½ NW¼, NE¼ SW¼, SE¼ SE¼;

Sec. 25, E½ SW¼, W½ SE¼.

T. 2 N., R. 41 E.,

Sec. 35, SE¼ NW¼.

T. 1 S., R. 40 E.,

Sec. 2, SW¼, S½ SE¼;

Sec. 3, Lot 1, E½ SE¼;

Sec. 10, E½ NE¼, NE¼ SE¼;

Sec. 11, E½, NW¼, N½ SE¼, SE¼ SW¼;

Sec. 12, SW¼, S½ NW¼, S½ SE¼;

Sec. 13, E½, E½ W½;

Sec. 24, NE¼, N½ SE¼, SW¼ SE¼;

Sec. 25, W½ NE¼.

T. 1 S., R. 41 E.,

Sec. 7, Lots 3 and 4;

Sec. 18, Lots 1-4;

Sec. 19, Lots 1-4, SE¼, E½ SW¼, S½ NE¼, SE¼ NW¼;

Sec. 20, SW¼, W½ SE¼, SW¼ NW¼;

Sec. 30, E½E½.

T. 1 S., R. 42 E.,

Sec. 18, NE¼, SE¼ NW¼, N½ SE¼, SE¼ SE¼.

Stinking Springs

Effective (30 days after the date of publication of final closure order in the Federal Register), Bureau of Land Management (BLM)-administered public lands located in the Stinking Springs area north of the South Fork of the Snake River near Heise, Idaho, described below, are closed to motor vehicle use, including off-highway vehicles (OHV) and snow machines. The only exceptions to this closure are administrative use of vehicles by the Bureau of Land Management and use by BLM permittees, including State and local government agencies. The Stinking Springs Trail shall remain open to all modes of travel from 4/15 to 11/15 of each year. Snow machines and full size passenger vehicles are prohibited year round. The area is bounded generally by the South Fork of the Snake River on the south and west, the Kelly Canyon Road and Targhee National Forest on the north and east. The legal description of the lands is as follows:

Boise Meridian, Idaho

T. 4 N., R. 41 E.,

Sec. 32, SE¼, SE¼ NE¼, and lands east of the Kelly Canyon Road in the NE¼ NE¼, NW¼ NE¼, SW¼ NE¼, NE¼ SW¼;

Sec. 33, All.

T. 3 N., R. 41 E.,

Sec. 2, SW¼;

Sec. 3, All;

Sec. 4, SE¼, SE¼ SW¼, NE¼ SW¼, NW¼ SW¼;

Sec. 5, NW¼ NE¼;

Sec. 8, Lots 6 and 8;

Sec. 9, Lots 2 and 3, NE¼, NW¼, SE¼, NE¼ SW¼;

Sec. 10, NW¼, SW¼, NE¼ NE¼, NW¼ NE¼, SW¼ NE¼;

Sec. 11, Lot 2, N½ NW¼;

Sec. 15, Lots 7 and 8, NW¼ NW¼;

Sec. 16, Lots 5 and 6.

Big Bend Ridge

Effective (30 days after the date of publication of final closure order in the Federal Register), BLM-administered public lands located in the Rattlesnake-Box Canyon, July Creek and Blue Creek areas, described below, are closed to motor vehicle use, including off-highway vehicles (OHV) and snow machines from October 1 to December 31 of each year, except on designated roads. The only exceptions to this closure are administrative use of vehicles by the Bureau of Land Management and use by BLM permittees, including State and local government agencies. The area is bounded by the Targhee National Forest on the east and north, Ashton Reservoir on the south, and the Sand Creek road on the west. The legal description of the lands is as follows:

Boise Meridian, Idaho

T. 9 N., R. 42 E.,

Sec. 1, Lot 4, SW¼ NW¼, W½ SW¼;

Sec. 2, All;

Sec. 3, All;

Sec. 4, All;

Sec. 5, Lots 1, 2, and 4, S½ NE¼, SE¼, SW¼ NW¼;

Sec. 6, Lot 1, SE¼ NE¼;

Sec. 8, NE¼, E½ SE¼;

Sec. 9, All;

Sec. 10, W½, SE¼, N½ NE¼, SW¼ NE¼;

Sec. 11, NW¼ NW¼, NW¼ NE¼;

Sec. 12, NE¼ NW¼;

Sec. 15, NW¼, NW¼ SE¼, W½ NE¼, NE¼ NE¼;

Sec. 17, SE¼, E½ NE¼, S½ SW¼;

Sec. 18, SE¼ SE¼;

Sec. 20, N½ N½;

Sec. 21, N½ N½, SE¼ NW¼, SW¼ NE¼.

T. 10 N., R. 42 E.,

Sec. 30, Lot 5;

Sec. 31, Lots 1-8, NE¼ SE¼.

T. 10 N., R. 41 E.,

Sec. 1, Lots 1-3, S½ N½, S½;

Sec. 2, SE¼;

Sec. 8, SE¼ SE¼;

Sec. 11, NE¼ NW¼, N½ NE¼;

Sec. 12, NW¼ NW¼, SW¼ SE¼, E½ E½;

Sec. 13, NE¼, NE¼ SE¼, NW¼ NW¼, SE¼ SW¼.

T. 11 N., R. 41 E.,

Sec. 29, S½ SW¼;

Sec. 32, NW¼.

South Fork of the Snake and Main Snake Rivers

Effective (30 days after the date of publication of final closure order in the Federal Register), BLM-administered public lands located in the South Fork of the Snake and Main Snake River corridors, described below, designated as Closed to Off-Highway Vehicles (OHV) in the Snake River Activity/Operations Plan, and Big Desert MFP are closed to motor vehicle use, including off-highway vehicles (OHV) and snow machines. The only exceptions to this closure are administrative use of vehicles by the Bureau of Land Management and use by BLM permittees, including State and local government agencies. The areas are bounded generally by the South Fork Snake and Main Snake Rivers. The legal description of the lands is as follows:

Dry Canyon: Those portions of the following described lands lying east and west of the South Fork Snake River.

Boise Meridian, Idaho

T. 2 N., R. 43 E.,

Sec. 5, Lots 1-4;

Sec. 6, Lots 1-3, Lots 8-13, E½ SW¼, and those portions of BLM lying within Lots 5-7;

Sec. 7, Lots 2, 3, and 6, and those portions of BLM lying within Lot 4.

Warm Springs: Those portions of the following described lands lying east of the South Fork Snake River.

Boise Meridian, Idaho

T. 3 N., R. 42 E.,

Sec. 12, Lots 3-6, 10 and 11;

Sec. 13, Lots 10 and 11.

Mud Creek Bar: Those portions of the following described lands lying east of the South Fork Snake River.

Boise Meridian, Idaho

T. 3 N., R. 42 E.,

Sec. 4, Lots 9 and 10;

Sec. 5, Lots 15 and 16;

Sec. 9, Lot 11.

Wolf Flat: Those portions of the following described lands lying north of the South Fork Snake River.

Boise Meridian, Idaho

T. 3 N., R. 41 E.,

Sec. 10, Lots 1 and 2;

Sec. 11, Lots 3 and 4;

Sec. 15, Lot 6.

Kelly Island: Those portions of the following described lands lying east and north of the South Fork Snake River and west and south of the South Fork county road (USFS road 206).

Boise Meridian, Idaho

T. 3 N., R. 41 E.,

Sec. 5, Lots 13 and 14.

T. 4 N., R. 41 E.,

Sec. 31, Lots 13 and 14;

Sec. 32, Lot 3.

Kelly Canyon: Those portions of the following described lands lying north and west of the Kelly Canyon Road.

Boise Meridian, Idaho

T. 4 N., R. 41 E.,

Sec. 29, Lot 5, SE¼, E½ SW¼, SW¼ SW¼, SW¼ NE¼, S½ NW¼;

Sec. 32, NW¼, NE¼ SW¼, N½ NE¼, SW¼ NE¼.

Cress Creek Trail: Those portions of the following described lands lying north and east of the South Fork Snake River.

Boise Meridian, Idaho

T. 4 N., 40 E.,

Sec. 23, Lots 6 and 11, SE¼ SE¼, W½ SE¼, NE¼ SW¼;

Sec. 26, Lots 8 and 9.

Twin Bridges: Those portions of the following described lands lying east of the south bridge and up the South Fork Snake River.

Boise Meridian, Idaho

T. 4 N., 40 E.,

Sec. 21, Lots 5-13.

Lorenzo Bridge: Those portions of the following described lands lying east of the South Fork Snake River.

Boise Meridian, Idaho

T. 5 N., R. 39 E.,

Sec 28, Lots 18-21, excluding the boat ramp access area.

Menan Bridge: Those portions of the following described lands lying South of the Snake River and east of the Menan Bridge.

Boise Meridian, Idaho

T. 5 N., R. 38 E.,

Sec 22, Lots 15, 16, 19, and 20.

Kellers Island: Those portions of the following described lands lying west of the Snake River.

Boise Meridian, Idaho

T. 5 N., R. 38 E.,

Sec 7, Lot 13;

Sec. 18, Lots 16 and 17.

Deer Parks: Those portions of the following described lands lying south of the Butte Market Lake Canal and north of the Snake River.

Boise Meridian, Idaho

T. 5 N., R. 37 E.,

Sec 12, Lots 9-12;

Sec. 13, Lots 9 and 10;

Sec. 14, Lots 9-12.

Ducks Unlimited Tract C: Those portions of the following described lands lying east of the Snake River.

Boise Meridian, Idaho

T. 4 N., R. 37 E.,

Sec 10, Lots 7, 15-17.

Firth River Bottom: Those portions of the following described lands lying west of the Snake River and east of the Peoples Canal.

Boise Meridian, Idaho

T. 1 South, R. 36 E.,

Sec 26, Lots 9-11, and 17.

Firth River Bottom: Those portions of the following described lands lying east of the Snake River and east of the Peoples Canal.

Boise Meridian, Idaho

T. 1 South, R. 36 E.,

Sec 27, Lot 6;

Sec. 34, Lots 8 and 15.

FOR FURTHER INFORMATION CONTACT: Jeff Gardetto, Wildlife Management Biologist, (208) 524-7545.

Dated: January 8, 2001.
Joe Kraayenbrink,
Idaho Falls Field Manager.

[FR Doc. 01-1727 Filed 1-19-01; 8:45 am]

BILLING CODE 4310-GG-U